FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 19, 2019.

A. Federal Reserve Bank of Minneapolis (Mark A. Rauzi, Vice President), 90 Hennepin Avenue, Minneapolis, Minnesota 55480-0291:

1. The Dawn M. Van Vugt Revocable Living Trust (Dawn M. Van Vugt, trustee) and Timothy J. Van Vugt as co-trustee, both of Sioux Falls, South Dakota; to join the Kooiman Family shareholder group, a group acting in concert, and acquire shares of First Rushmore, Bancorporation, Inc., Worthington, Minnestota and thereby indirectly acquire shares of First State Bank Southwest, Pipestone, Minnesota.

Board of Governors of the Federal Reserve System, May 29, 2019.
Yao-Chin Chao,
Assistant Secretary of the Board.

[FR Doc. 2019-11471 Filed 5-31-19; 8:45 am]

BILLING CODE 6210-01-P